DEPARTMENT OF EDUCATION

Office of Special Education and Rehabilitative Services; List of Correspondence

AGENCY: Department of Education.

ACTION: List of correspondence from April 1, 1999 through June 30, 1999.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: JoLeta Reynolds or Rhonda Weiss. Telephone: (202) 205-5507. Individuals who use a telecommunications device for the deaf (TDD) may call (202) 205-5465 or the Federal Information Relay Service (FIRS) at 1-800-877-8339 between 8:00 am and 8:00 pm, Eastern time, Monday through Friday, except Federal holidays.

Individuals with disabilities may obtain a copy of this notice in an alternate format (e.g., Braille, large print, audiotape, or computer diskette) on request to Katie Mincey, Director of the Alternate Formats Center. Telephone: (202) 205-8113.

SUPPLEMENTARY INFORMATION: The following list identifies correspondence from the Department issued between April 1, 1999 and June 30, 1999.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A: General Provisions

Section 602—Definitions

Topic Addressed: Emotional Disturbance

• Letter dated June 11, 1999 to individual, (personally identifiable information redacted), regarding use of the term “emotional disturbance” in lieu of “serious emotional disturbance” and the right of each child with a disability to receive special education and related services that address that child's unique needs.

Section 607—Requirements for Prescribing Regulations

Topic Addressed: Applicable Regulations

• OSEP memorandum 99-11 dated April 27, 1999 to State Directors of Special Education, regarding final regulations published on March 12, 1999 and dates by which compliance with these regulations became mandatory for States receiving funds under Part B of IDEA.

Part B: Assistance for Education of All Children With Disabilities

Section 612—State Eligibility

Topic Addressed: Free Appropriate Public Education

• Letter dated April 2, 1999 to Paul T. Halverson, Wisconsin Department of Public Instruction, regarding the absence of any requirements in Part B of IDEA that a free appropriate public education be made available to children with disabilities through age 22, and clarifying a State's discretionary authority to enact a law requiring that a free appropriate public education be made available to children with disabilities through the end of the school year during which they turn 21 years of age.

• Letter dated April 9, 1999 to Attorney Sonja D. Kerr, regarding the obligation of public agencies to finance the costs of residential placements in situations where the public agency responsible for the child's education determines that the placement is necessary for the provision of special education and related services to the child.

• Letters dated April 29, 1999 to U.S. Congressman Dennis J. Kucinich and to U.S. Congresswoman Stephanie Tubbs Jones, regarding medical interventions for children with attention deficit hyperactivity disorder, and explaining that it is the responsibility of medical, not educational professionals to prescribe medication to a child with a disability, and clarifying that a school district's failure to deliver required services to an eligible child with a disability, due to a parent's refusal to give his or her child medication, may be a violation of the free appropriate public education requirements of Part B of IDEA and section 504 of the Rehabilitation Act of 1973 (section 504).

• Letter dated May 14, 1999 to Iowa Governor Thomas J. Vilsack, regarding the U.S. Supreme Court's decision in Cedar Rapids Community School District v. Garret F., and provisions in the IDEA that assist States and school districts in paying for the cost of special education and related services, including the types of services at issue in the Garret F. decision.

Topic Addressed: Least Restrictive Environment

• Letter dated June 4, 1999 to New York State Education Department Commissioner Richard P. Mills, informing New York that if its funding formula that distributes States funds on the basis of the type of setting in which a child is served is not revised in a manner that ensures compliance with the least restrictive environment requirements of the IDEA Amendments of 1997, New York will become a high risk grantee and its Part B grant award for Federal Fiscal Year 1999 will include special conditions requiring the State to revise this funding formula.

Topic Addressed: State Educational Agency General Supervisory Responsibility

• Letter dated April 30, 1999 to U.S. Congressman Roy Blunt, regarding concerns about IDEA paperwork requirements and student discipline provisions and identifying ways in which the IDEA Amendments of 1997 actually reduce unnecessary paperwork and provide for expanded authority to address disciplining students with disabilities.

Topic Addressed: Information Required for Receipt of Grant Awards

• OSEP memorandum 99-13 dated June 28, 1999, to Chief State School Officers regarding Procedures for States to Follow in order to Receive a Grant Award under sections 611 and 619 of Part B of IDEA for Federal Fiscal Year 2000, which includes, among other matters, requirements for: (1) Submission of documentation of the State's eligibility by April 14, 2000, (2) a description of how amounts retained for State level activities will be used, and (3) a description of the steps the State proposes to take to ensure equitable access to, and participation in, activities conducted under Part B of IDEA by overcoming barriers to equitable participation, in accordance with section 427 of the General Education Provisions Act.

Section 613—Local Educational Agency Eligibility

Topic Addressed: Distribution of Subgrants to Eligible Charter Schools

• OSEP memorandum 99-12 dated June 25, 1999 to State Directors of Special Education, regarding a Notice of Proposed Rulemaking implementing the Charter School Expansion Act of 1998, clarifying that this Act is applicable to formula grant programs administrated by the Department, including programs funded under sections 611 and 619 of Part B of IDEA, and setting out permissible options for States and local educational agencies to consider using in implementing the Act's requirements that newly-created charter schools and charter schools that significantly expand their enrollment receive the Part B funds for which they are eligible.

Section 614—Evaluation, Eligibility Determinations, Individualized Education Programs, and Educational Placements

Topic Addressed: Evaluations

• Letter dated June 29, 1999 to Madison Elementary School Faculty Senate President Rosemary Anderson, regarding a school district's obligations to students with disabilities who initially register to attend school, and (1) clarifying that it would be a violation of Part B and section 504 for a school district to have a blanket policy that requires students with disabilities to delay attendance at a school after registration pending the evaluation, and (2) explaining that a child can be temporarily placed and provided accommodations agreed to by the parents and the school to ensure the child's safety.

Section 615—Procedural Safeguards

Topic Addressed: Attorney's Fees

• Letter dated June 24, 1999 to Attorney Robert Hornstein, and letter dated June 24, 1999 to Florida Bureau for Education of Exceptional Students Chief Shan Goff, regarding a State court's authority to grant attorneys' fees to the parents of a child with a disability who is the prevailing party in any action or proceeding brought under section 615 of IDEA.

Topic Addressed: Mediation

• Letter dated May 12, 1999 to Vice President of Florida Statewide Advocacy Network on Disability Nikole Whitehead, regarding the absence of a requirement under Part B of IDEA that a child must remain in his or her current educational placement based solely on a request for a mediation that occurs prior to a parent's request for a due process hearing.

Topic Addressed: Student Discipline

• Letter dated April 21, 1999 to individual, (personally identifiable information redacted), regarding options available to school authorities in disciplining students with disabilities.

Section 619—Preschool Grants

Topic Addressed: Procedures for Allocating Subgrants to Eligible Entities

• Letter dated June 28, 1999 to New York State Education Department Deputy Commissioner Lawrence Gloeckler, regarding procedures for State educational agencies to use in allocating subgrants of funds awarded under section 619 of IDEA to eligible entities, procedures for calculating base payments, and procedures for calculating population and poverty payments.

Part C: Infants and Toddlers With Disabilities

Sections 631-641

Topic Addressed: Natural Environments

• Letter dated May 26, 1999 to Missouri Department of Elementary and Secondary Education Assistant Commissioner John B. Heskett, regarding States' obligations to ensure that early intervention services are provided to infants and toddlers with disabilities in natural environments, including the home or community settings in which typically developing children participate, and that individualized determinations must be made by the individualized family service plan team (which includes the parent or parents) as to whether the setting in which the services are being offered would be the natural environment for the particular child.

• Letter dated June 11, 1999 to U.S. Congressman Martin Meehan, regarding serving infants and toddlers with disabilities in natural environments appropriate for the individual child and his or her family.

Topic Addressed: Provision of a Free Appropriate Public Education to Children With Disabilities Below Age 3

• Letter dated April 30, 1999 to Iowa Department of Education Part C Technical Assistant Julie Curry, confirming that when a child below age three receives a free appropriate public education, states must comply with the requirements of: (1) both Parts B and C of IDEA when Part B funds are used, and (2) with Part C even if no IDEA Part B or C funds are used for that child as long as the State receives any Part C funds.

Part D: National Activities to Improve Education of children with Disabilities

Subpart 2—Coordinated Research, Personnel Preparation, Technical Assistance, Support, and Dissemination of Information

Section 682—Parent Training and Information Centers

Topic Addressed: Definition of Parent Organization

• Letter dated April 15, 1999 to National Association of Protection and Advocacy Systems Executive Director Curtis L. Decker, regarding the statutory definition of “parent organization” and explaining that a protection and advocacy entity that otherwise meets section 682 statutory criteria would be eligible to compete for funding as a parent training and information center (PTI).

Other Letters Relevant to the Administration of IDEA Programs

Topic Addressed: Freedom of Information Act

• Letter dated May 20, 1999 to individual, (personally identifiable information redacted), regarding an appeal of a partial denial of a request for agency records under the Freedom of Information Act (FOIA) and stating that FOIA exemption (b)(6), which protects from public disclosure information that would constitute a clear invasion of personal privacy, authorizes the Department not to release to the public personal information, such as home addresses and telephone numbers, of attendees contained in a register maintained by the Office of Special Education Programs (OSEP) of public meetings conducted in connection with OSEP's State educational agency monitoring.

Electronic Access to This Document

You may view this document, as well as all other Department of Education documents published in the Federal Register, in text or Adobe Portable Document format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free at 1-800-293-6498; or in the Washington, D.C., area at (202) 512-1530.

Note: The official version of this document is the document published in the Federal Register. Free Internet access to the official edition of the Federal Register and the Code of Federal Regulations is available on GPO Access at: http://www.access.gpo.gov/nara/index.html

(Catalog of Federal Domestic Assistance Number 84.027, Assistance to States for Education of Children with Disabilities)

Dated: March 14, 2000.
Judith E. Heumann,
Assistant Secretary for Special Education and Rehabilitative Services.

[FR Doc. 00-6648 Filed 3-16-00; 8:45 am]

BILLING CODE 4000-01-M